DEPARTMENT OF THE INTERIOR

U.S. Geological Survey

Privacy Act of 1974; Amendments to Existing Systems of Records

AGENCY: U.S. Geological Survey.

ACTION: Proposed amendment of existing Privacy Act systems of records.

SUMMARY: In accordance with the Privacy Act of 1974 (5 U.S.C. 552a), the U.S. Geological Survey of the Department of the Interior is issuing public notice of its intent to amend 14 existing Privacy Act system of records notices to add a new routine use to authorize the disclosure of records to individuals involved in responding to a breach of Federal data.

DATES: Comments must be received by June 29, 2009.

ADDRESSES: Any persons interested in commenting on these proposed amendments may do so by submitting comments in writing to the U.S. Geological Survey Privacy Act Officer, Deborah Kimball, U.S. Geological Survey, U.S. Department of the Interior, MS-807, 12201 Sunrise Valley Drive, Reston, VA 20192, or by e-mail to dkimball@usgs.gov.

FOR FURTHER INFORMATION CONTACT: U.S. Geological Survey Privacy Act Officer, Deborah Kimball, U.S. Geological Survey, U.S. Department of the Interior, MS-807, 12201 Sunrise Valley Drive, Reston, VA 20192, or by e-mail to dkimball@usgs.gov.

SUPPLEMENTARY INFORMATION: On May 22, 2007, in a memorandum for the heads of Executive Departments and Agencies entitled “Safeguarding Against and Responding to the Breach of Personally Identifiable Information,” the Office of Management and Budget directed agencies to develop and publish a routine use for disclosure of information in connection with response and remedial efforts in the event of a data breach. This routine use will serve to protect the interest of the individuals, whose information is at issue by allowing agencies to take appropriate steps to facilitate a timely and effective response to the breach, thereby improving its ability to prevent, minimize or remedy any harm resulting from a compromise of data maintained in its systems of records. Accordingly, the U.S. Geological Survey of the Department of the Interior is proposing to add a new routine use to authorize disclosure to appropriate agencies, entities, and persons, of information maintained in the following systems in the event of a data breach. These amendments will be effective as proposed at the end of the comment period unless comments are received which would require a contrary determination. The U.S. Geological Survey will publish a revised notice if changes are made based upon a review of comments received.

Dated: May 12, 2009.
Deborah Kimball,
U.S. Geological Survey Privacy Act Officer.

SYSTEM NAMES:

INTERIOR/USGS-1

System Name:

National Water Information System.

FR Doc. E8-21913 Filed 9-18-08; 8:45 a.m.

INTERIOR/USGS-5

System Name:

Contract Files.

FR Doc. 90-60371 Filed 09-07-90.

INTERIOR/USGS-7

System Name:

Personal Property Accountability Records.

FR Doc. 98-29906 Filed 11-6-98; 8:45 a.m.

INTERIOR/USGS-9

System name:

National Research Council Grants Program.

FR Doc. 98-29906 Filed 11-6-98.

INTERIOR/USGS-11

System name:

Security.

FR Doc. 98-51015 Filed 12-19-98.

INTERIOR/USGS-13

System name:

Manuscript Processing.

FR Doc. 98-47863 Filed 01-07-98.

INTERIOR/USGS-15

System name:

Earth Science Information Customer Records.

FR Doc. 90-36907 Filed 09-07-90.

INTERIOR/USGS-18

System name:

Computer Registration System.

FR Doc. 98-25638 Filed 07-08-98.

INTERIOR/USGS-20

System name:

Photo File System.

FR Doc. 83-28749 Filed 6-23-83.

INTERIOR/USGS-23

System name:

Personnel Investigations Records.

FR Doc. 93-36822 Filed 6-29-93.

INTERIOR/USGS-24

System name:

Employee Work Report Edit and Individual Employee Production Rates.

FR Doc. 90-45561 Filed 10-30-90.

INTERIOR/USGS-25

System name:

Water Data Sources Directory.

FR Doc. 91-36823 Filed 08-01-91.

INTERIOR/USGS-26

System name:

National Water Data Exchange User Accounting System.

FR Doc. 93-47869 Filed 10-25-93.

INTERIOR/USGS-27

System name:

Office of Management Services (OMS) Badging and Access Control System.

FR Doc. 97-3499 Filed 02-11-97; 8:45 am.

NEW ROUTINE USE:

Disclosures outside the Department of the Interior may be made:

To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

[FR Doc. E9-11613 Filed 5-18-09; 8:45 am]

BILLING CODE 4311-AM-P